DEPARTMENT OF TRANSPORTATION

Federal Aviation Administration

[Summary Notice No. PE-2001-23]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemptions part 11 of Title 14, Code of Federal Regulations (14 CFR), this notice contains a summary of dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 11, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at ­http://dms.dot.gov.

FOR FURTHER INFORMATION CONTACT: Forest Rawls (202) 267-8033, or Vanessa Wilkins (202) 267-8029, Office of Rulemaking (ARM-1), Federal Aviation Administration, 800 Independence Avenue, SW., Washington, DC 20591.

This notice is published pursuant to 14 CFR 11.85 and 11.91.

Issued in Washington, D.C., on March 16, 2001.
Donald P. Byrne,
Assistant Chief Counsel for Regulations.

Dispositions of Petitions

Docket No.: FAA-2000-8009.

Petitioner: Alaska Airlines.

Section of 14 CFR Affected: 14 CFR 121.433(c)(1)(iii), 121.440(a), 121.441(a)(1) and (b)(1) and appendix F to part 121.

Description of Relief Sought/Disposition: To permit ALA to combine recurrent flight and ground training and proficiency checks for ALA's flight crewmembers in a single, annual training and proficiency evaluation program. Grant, 01/19/2001, Exemption No. 6043C.

Docket No.: FAA-2000-8454.

Petitioner: United Air Lines, Inc.

Section of 14 CFR Affected: 14 CFR 121.434(c) (1) (ii).

Description of Relief Sought/Disposition: To permit UAL to substitute a qualified and authorized check airman for an FAA inspector when an inspector is not available to accomplish the required observation during the scheduled operating experience flight legs of a qualifying pilot in command who is completing initial or upgrade training. Grant, 01/25/2001, Exemption No. 6570B.

Docket No.: FAA-2000-8142.

Petitioner: J.R. Aviation, Inc.

Section of 14 CFR Affected: 14 CFR 135.143(c)(2).

Description of Relief Sought/Disposition: To permit JRA to operate certain aircraft under part 135 without a TSO-C112 (Mode S) transponder installed in the aircraft. Grant, 01/16/2001, Exemption No. 6423.

Docket No.: FAA-2000-8474.

Petitioner: Howell Enterprises, Inc.

Section of 14 CFR Affected: 14 CFR 135.143(c)(2).

Description of Relief Sought/Disposition: To permit HEI to operate certain aircraft under part 135 without a TSO-C112 (Mode S) transponder installed in the aircraft. Grant, 01/22/2001, Exemption No. 7427.

Docket No.: FAA-2000-8337.

Petitioner: Alaska's Lake Clark Inn.

Section of 14 CFR Affected: 14 CFR 135.143(c)(2).

Description of Relief Sought/Disposition: To permit ALCI to operate certain aircraft under part 135 without a TSO-C112 (Mode S) transponder installed in the aircraft. Grant, 01/22/2001, Exemption No. 7426.

Docket No.: FAA-2000-8184.

Petitioner: Four Points Airways, Inc.

Section of 14 CFR Affected: 14 CFR 135.143(c)(2).

Description of Relief Sought/Disposition: To permit Four Points to operate certain aircraft under part 135 without a TSO-C112 (Mode S) transponder installed in the aircraft. Grant, 01/22/2001, Exemption No. 7425.

Docket No.: FAA-2000-8434.

Petitioner: Air Transport Association of America, Inc.

Section of 14 CFR Affected: 14 CFR 121.652 (a) and (c).

Description of Relief Sought/Disposition: To permit ATA-member airlines and other similarly situated part 121 operators to permit a pilot in command (PIC) conducting operations under Part 121 to perform an instrument approach procedure to the weather minima prescribed by this exemption during the first 100 hours of service as PIC, in the type airplane he or she is operating, using an alternative means approved by the Administrator to satisfy the requirements of § 121.652 (a) and (c). Grant 01/25/2001, Exemption No. 5549E.

Docket No.: FAA-2000-8148.

Petitioner: Epps Air Service, Inc.

Section of 14 CFR Affected: 14 CFR 135.143(c)(2).

Description of Relief Sought/Disposition: To permit Epps to operate certain aircraft under part 135 without a TSO-C112 (Mode S) transponder installed in the aircraft. Grant, 01/22/2001, Exemption No. 6037C.

Docket No.: FAA-2000-8466.

Petitioner: Larry's Flying Service, Inc.

Section of 14 CFR Affected: 14 CFR 135.143(c)(2).

Description of Relief Sought/Disposition: To permit LFS to operate certain aircraft under part 135 without a TSO-C112 (Mode S) transponder installed in the aircraft. Grant, 01/16/2001, Exemption No. 7422.

[FR Doc. 01-7064 Filed 3-21-01; 8:45 am]

BILLING CODE 4910-13-M